POSTAL REGULATORY COMMISSION

[Docket No. N2021-1; Presiding Officer's Ruling No. 16]

Service Standard Changes

AGENCY: Postal Regulatory Commission.

ACTION: Notice.

SUMMARY: The Commission is providing notice of a hearing on the Postal Service's direct case in this proceeding. This notice informs the public of the hearing dates and times.

DATES: Hearing date: June 9, 2021, at 10:00 a.m. Eastern Daylight Time, Virtual Online.

ADDRESSES: For additional information, Presiding Officer's Ruling No. 16 can be accessed electronically through the Commission's website at https://www.prc.gov.

FOR FURTHER INFORMATION CONTACT: David A. Trissell, General Counsel, at 202-789-6820.

SUPPLEMENTARY INFORMATION: The Presiding Officer hereby gives notice that a hearing on the Postal Service's direct case in the above-captioned docket shall commence at 10:00 a.m. EDT on Wednesday, June 9, 2021. The hearing shall be available by livestream at https://youtu.be/RZl6CzkutRg.¹

¹ Should a second day of hearings be necessary, it will convene at 10:00 a.m. EDT on Thursday, June 10, 2021, and will be available to livestream at https://youtu.be/n9cQTSKoE7E.

Each individual seeking to actively participate in the WebEx hearing (including motions practice or may conduct cross-examination or follow-up cross-examination) must register by sending an email to N2021-1registration@prc.gov with the subject line “Registration” not later than Tuesday, June 8, 2021. Please ensure the email contains the following information:

• Your first and last name

• your email address (to receive the WebEx link)

• your affiliation

The N2021-1registration@prc.gov email address is used solely for the exchange of information relating to the logistics of registering for and participating in the hearing.² No information related to the substance of the cases shall be provided or communicated via that email.

² Please refer to the Commission's privacy policy which is available at https://www.prc.gov/privacy.

The Postal Service's witnesses shall appear on June 9, 2021, at 10:00 a.m. EDT via the WebEx hearing. The order of the witnesses is as follows:

• Steven Monteith (USPS-T-4)

• Stephen Hagenstein (USPS-T-3)

• Robert Cintron (USPS-T-1)

It is the Presiding Officer's intent to have all the Postal Service witnesses called and excused by 4:00 p.m. EDT. Should additional time for questioning be necessary, the hearing will reconvene on June 10, 2021, at 10:00 a.m. EDT.

Three of the Postal Service's witnesses, namely Curtis Whiteman (USPS-T-2), Thomas Thress (USPS-T-5), and Sharon Owens (Postal Service institutional witness) are not called and are excused. The Postal Service shall file any corrected testimony, corrected designated written-cross examination, etc., applicable to the excused witnesses with a declaration/affidavit from the witness attesting to the proposed record material, no later than June 7, 2021. The Postal Service may move to admit these materials by written motion not later than June 9, 2021. Objections to the admission of the proposed record material for these excused witnesses are due not later than June 10, 2021.

Likewise the rebuttal witnesses, namely Anita Morrison (APWU-RT-1), Stephen DeMatteo (APWU-RT-2), Douglas Carlson (DFC-RT-1), and Steve Hutkins (SH-RT-1) are not called and are excused. Rebuttal witnesses shall file a motion, in writing, to admit their testimony, along with a declaration that their testimony would be the same if offered orally (and proffer any corrections if necessary), not later than June 10, 2021. Objections to the admission of the proposed record material for these excused rebuttal witnesses are due not later than June 11, 2021.

Ruling

1. The hearing on the Postal Service's direct case shall begin on June 9, 2021, at 10:00 a.m. EDT. The Postal Service shall make the identified witnesses available at the commencement of the hearing, consistent with the body of this ruling.

2. Participants who wish to actively participate must register via email consistent with the body of this ruling.

3. Proposed record materials from the excused Postal Service witnesses shall be filed with the Commission not later than June 7, 2021.

4. The Postal Service shall move to admit the proposed record materials for excused witnesses not later than June 9, 2021, consistent with the body of this ruling.

5. Objections to the admission of the Postal Service's proposed record materials are due not later than June 10, 2021.

6. Excused rebuttal witnesses shall move to have their testimony (or corrected testimony) admitted by June 10, 2021, consistent with the body of this ruling.

7. Objections to the admission of the rebuttal witnesses' proposed record materials are due not later than June 11, 2021.

8. The Secretary shall arrange for publication of this ruling in the Federal Register.

Erica A. Barker,
Secretary.

[FR Doc. 2021-12186 Filed 6-9-21; 8:45 am]

BILLING CODE 7710-FW-P